DEPARTMENT OF HEALTH AND HUMAN SERVICES

Centers for Medicare & Medicaid Services

[CMS-6075-CN]

RIN 0938-ZB44

Medicare, Medicaid, and Children's Health Insurance Programs; Provider Enrollment Application Fee Amount for Calendar Year 2018; Correction

AGENCY: Centers for Medicare & Medicaid Services (CMS), HHS.

ACTION: Notice; correction.

SUMMARY: This document corrects technical errors in the December 4, 2017 Federal Register notice titled “Provider Enrollment Application Fee Amount for Calendar Year 2018”.

DATES: Effective Date: This correction notice takes effect on January 1, 2018.

FOR FURTHER INFORMATION CONTACT: Melissa Singer, (410) 786-0365.

SUPPLEMENTARY INFORMATION:

I. Background and Summary of Errors

In FR Doc. 2017-25972, which appeared in the December 4, 2017 Federal Register (82 FR 57273) titled “Medicare, Medicaid, and Children's Health Insurance Programs; Provider Enrollment Application Fee Amount for Calendar Year 2018”, there were several technical and typographical errors that are identified and corrected in the Correction of Errors section of this document.

On page 57274, in our discussion regarding Medicare estimates for calendar year (CY) 2018, we erroneously listed the number of “newly enrolled institutional providers” as “3,800”. Given this error, we are also correcting the errors in several calculations/equations that included the erroneous figure (that is, 3,800). We are also correcting a typographical error.

II. Correction of Errors

In FR Doc. 2017-25972 of December 4, 2017 (82 FR 57273), make the following corrections:

1. On page 57274,

a. Second column, last bulleted paragraph, line 1, the phrase “3,800 newly enrolling institutional providers” is corrected to read “10,700 newly enrolling institutional providers”.

b. Third column—

(1) First bulleted paragraph, line 1, the figure “7.500” is corrected to read 7,500”.

(2) Second full paragraph—

(a) Line 1, the phrase “Using a figure of 11,300 (3,800 newly enrolling” is corrected to read “Using a figure of 18,200 (10,700 newly enrolling”.

(b) Line 6, the phrase “$101,700 (or 11,300 × $9” is corrected to read “$163,800 (or 18,200 × $9”.

(3) Fourth full paragraph, line 6, the phrase “be $371,700 ($270,000 + $101,700)” is corrected to read “be $433,800 ($270,000 + $163,800)”.

Dated: December 27, 2017.
Wilma Robinson,
Deputy Executive Secretary to the Department, Department of Health and Human Services.

[FR Doc. 2017-28412 Filed 12-29-17; 11:15 am]

BILLING CODE 4120-01-P